DEPARTMENT OF HEALTH AND HUMAN SERVICES

Centers for Disease Control and Prevention

Disease, Disability, and Injury Prevention and Control Special Emphasis Panel; Meeting

Disease, Disability, and Injury Prevention and Control Special Emphasis Panel: Enhancing Utilization of Childhood Immunization Client Recall Practices by Private Providers, RFA; IP 05-088; Improving Vaccination Coverage in the Greater than 65 Years of Age Population, RFA IP 05-091; Influenza Vaccination of Children and Accompanying Adults: Mass Vaccination versus Vaccination in Routine Care, RFA IP 05-094; Effectiveness of a Hospital Based Program for Vaccination of Birth Mothers and Household Contacts with Inactivated Influenza Vaccine, RFA; IP 05-095; and Developing Methods and Strategies to Increase Use of Immunization Registries by Private Providers, RFA IP 05-096.

In accordance with section 10(a)(2) of the Federal Advisory Committee Act (Pub. L. 92-463), the Centers for Disease Control and Prevention (CDC) announces the following meeting:

Name: Disease, Disability, and Injury Prevention and Control Special Emphasis Panel (SEP): Enhancing Utilization of Childhood Immunization Client Recall Practices by Private Providers, RFA IP 05-088; Improving Vaccination Coverage in the Greater than 65 Years of Age Population, RFA IP 05-091; Influenza Vaccination of Children and Accompanying Adults: Mass Vaccination versus Vaccination in Routine Care, RFA IP 05-094; Effectiveness of a Hospital Based Program for Vaccination of Birth Mothers and Household Contacts with Inactivated Influenza Vaccine, RFA IP 05-095; and Developing Methods and Strategies to Increase Use of Immunization Registries by Private Providers, RFA IP 05-096.

Times and Dates: 8 a.m.-5 p.m., November 21, 2005 (Closed).

Place: Renaissance Hotel, 1 Hartsfield Center Parkway, Atlanta, GA 30354, Telephone 404.209.9999.

Status: The meeting will be closed to the public in accordance with provisions set forth in section 552b(c) (4) and (6), Title 5 U.S.C., and the Determination of the Director, Management Analysis and Services Office, CDC, pursuant to Public Law 92-463.

Matters to be Discussed: The meeting will include the review, discussion, and evaluation of applications received in response to Enhancing Utilization of Childhood Immunization Client Recall Practices by Private Providers, RFA IP 05-088; Improving Vaccination Coverage in the Greater than 65 Years of Age Population, RFA IP 05-091; Influenza Vaccination of Children and Accompanying Adults: Mass Vaccination versus Vaccination in Routine Care, RFA IP 05-094; Effectiveness of a Hospital Based Program for Vaccination of Birth Mothers and Household Contacts with Inactivated Influenza Vaccine, RFA IP 05-095; and Developing Methods and Strategies to Increase Use of Immunization Registries by Private Providers, RFA IP 05-096.

FOR FURTHER INFORMATION CONTACT: Horace M. Stiles, PHD MPH DDS, Scientific Review Administrator, National Institute for Occupational Safety and Health, CDC, 1600 Clifton Road, NE., MS E-74, Atlanta, GA 30333, Telephone 404-498-2584.

The Director, Management Analysis and Services Office, has been delegated the authority to sign Federal Register notices pertaining to announcements of meetings and other committee management activities, for both CDC and the Agency for Toxic Substances and Disease Registry.

Dated: October 19, 2005.
Alvin Hall,
Director, Management Analysis and Services Office, Centers for Disease Control and Prevention.

[FR Doc. 05-21341 Filed 10-25-05; 8:45 am]

BILLING CODE 4163-18-P